DEPARTMENT OF JUSTICE

[AAG/A Order No. 214-2001]

Privacy Act of 1974; System of Records

Pursuant to the provisions of the Privacy Act of 1974 (5 U.S.C. 552a), the Immigration and Naturalization Service (INS), Department of Justice, proposes to modify the following system of records-previously published July 31, 2000 (65 FR 46738):

Deportable Alien Control System (DACS), JUSTICE/INS-012

INS proposes to add two new routine use disclosures, identified as routine use (K) and (L). The purpose of routine use (K) is to allow legal service providers to call an INS detention facility in advance of a visit to the site, to determine whether a certain individual is detained. The release of the information is discretionary and will only pertain to whether or not the individual concerned is currently detained at that facility. Routine use (L) allows contractors working on behalf of INS to have access to necessary information to assist in this program.

In accordance with 5 U.S.C. 552a(e)(4) and (11), the public is given a 30-day period in which to comment on the new routine use disclosures. The Office of Management and Budget (OMB), which has oversight responsibilities under the Act, requires a 40-day period in which to conclude its review of the system. Therefore, please submit any comments by February 21, 2001. The public, OMB, and the Congress are invited to send written comments to Mary Cahill, Management Analyst, Management and Planning Staff, Justice Management Division, Department of Justice, Washington, DC 20530 (Room 1400, National Place Building).

In accordance with 5 U.S.C. 552a(r), the Department has provided a report to OMB and the Congress on the proposed modification.

Dated: January 8, 2001.
Stephen R. Colgate,
Assistant Attorney General for Administration.

JUSTICE/INS-012

SYSTEM NAME:

Deportable Alien Control System (DACS).

* * * * *

ROUTINE USES OF RECORDS MAINTAINED IN THE SYSTEM INCLUDING CATEGORIES OF USERS AND PURPOSE OF SUCH USES:

Relevant information contained in this system of records may be disclosed as follows:

* * * * *

K. To legal service providers who are authorized to represent individuals in removal proceedings with the United States Immigration and Naturalization Service, to assist individuals in INS custody acquire legal representation.

L. To contractors, grantees, experts, consultants, students, and others performing or working on a contract, service, grant, cooperative agreement, or other assignment for the Federal government, when necessary to accomplish an agency function related to this system of records.

* * * * *

[FR Doc. 01-1739 Filed 1-19-01; 8:45 am]

BILLING CODE 4410-10-M